ENVIRONMENTAL PROTECTION AGENCY

[EPA-HQ-OAR-2015-0216; FRL-9937-13-OAR]

Release of Draft Control Techniques Guidelines for the Oil and Natural Gas Industry

AGENCY: Environmental Protection Agency (EPA).

ACTION: Extension of comment period.

SUMMARY: On September 18, 2015, the Environmental Protection Agency (EPA) announced the availability of a draft Control Techniques Guidelines (CTG) document titled, “Release of Draft Control Techniques Guidelines for the Oil and Natural Gas Industry.” The EPA is extending the comment period on the notice of availability of the draft CTG document that was scheduled to close on November 17, 2015. The EPA has received several letters from trade and business organizations, states and tribes requesting additional time to review and comment on the notice of availability of the draft CTG document.

DATES: The public comment period for notice of availability of the CTG document published in the Federal Register on September 18, 2015 (80 FR 56577), is being extended. Written comments must be received on or before December 4, 2015.

ADDRESSES: The EPA has established a docket for the draft CTG document (available at http://www.regulations.gov). For the notice of availability titled, “Release of Draft Control Techniques Guidelines for the Oil and Natural Gas Industry,” the Docket ID No. is EPA-HQ-OAR-2015-0216. Information on this document is posted at http://www.epa.gov/airquality/oilandgas/actions.html. Submit your comments, identified by the appropriate Docket ID, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: For additional information on this action, contact Cheryl Vetter, Office of Air Quality Planning and Standards, Environmental Protection Agency (C504-03), Research Triangle Park, North Carolina 27711; telephone number (919) 541-4391; fax number (919) 541-5509; email address: vetter.cheryl@epa.gov.

SUPPLEMENTARY INFORMATION: After considering the requests to extend the public comment period received from various trade and business organizations, states and tribes, the EPA has decided to extend the public comment period until December 4, 2015. This extension will ensure that the public has additional time to comment on the draft CTG document.

Dated: November 10, 2015.
Mary E. Henigin,
Acting Director, Office of Air Quality Planning and Standards.

[FR Doc. 2015-29174 Filed 11-13-15; 8:45 am]

BILLING CODE 6560-50-P